FEDERAL RESERVE SYSTEM

Formations of, Acquisitions by, and Mergers of Bank Holding Companies; Correction

This notice corrects a notice (FR Doc. E6-22532) published on page 334 of the issue for Thursday, January 4, 2007.

Under the Federal Reserve Bank of St. Louis heading, the entry for Enterprise Financial Services Corp., Clayton, Missouri, is revised to read as follows:

A. Federal Reserve Bank of St. Louis (Glenda Wilson, Community Affairs Officer) 411 Locust Street, St. Louis, Missouri 63166-2034:

1. Enterprise Financial Services Corp. Clayton, Missouri; to acquire 100 percent of the voting shares of Clayco Banc Corporation, De Soto, Kansas, and thereby indirectly acquire Great American Bank, DeSoto, Kansas.

Comments on this application must be received by January 26, 2007.

Board of Governors of the Federal Reserve System, January 16, 2007.
Robert deV. Frierson,
Deputy Secretary of the Board.

[FR Doc. E7-777 Filed 1-19-07; 8:45 am]

BILLING CODE 6210-01-S